NATIONAL SCIENCE FOUNDATION

Agency Information Collection Activities: Proposed Collection; Comment Request

AGENCY: National Science Foundation.

ACTION: Notice.

SUMMARY: The National Science Foundation (NSF) is announcing plans to request clearance of this collection. In accordance with the requirement of section 3506(c)(2)(A) of the Paperwork Reduction Act of 1995 (Pub. L. 104-13), we are providing opportunity for public comment on this action. After obtaining and considering public comment, NSF will prepare the submission requesting that OMB approve clearance of this collection for no longer than three years.

DATES: Written comments on this notice must be received by December 27, 2010 to be assured of consideration. Comments received after that date will be considered to the extent practicable.

FOR FURTHER INFORMATION CONTACT: Suzanne Plimpton, Reports Clearance Officer, National Science Foundation, 4201 Wilson Boulevard, Suite 295, Arlington, Virginia 22230; telephone (703) 292-7556; or send e-mail to splimpto@nsf.gov. Individuals who use a telecommunications device for the deaf (TDD) may call the Federal Information Relay Service (FIRS) at 1-800-877-8339 between 8 a.m. and 8 p.m., Eastern time, Monday through Friday. You may obtain a copy of the data collection instruments and instructions from Ms. Plimpton.

SUPPLEMENTARY INFORMATION: Title of Collection: Revitalizing Computing Pathways (CPATH) in Undergraduate Education Program Evaluation.

OMB Number: 3145-0211.

Expiration Date of Approval: March 31, 2013.

Title of collection: Revitalizing Computing Pathways (CPATH) in Undergraduate Education Program Evaluation.

Type of request: Revised Clearance.

Abstract: The CPATH program was established by the National Science Foundation's Computer & Information Science & Engineering (CISE) division with a vision towards preparing a U.S. workforce with the computing competencies and skills imperative to the Nation's health, security, and prosperity in the 21st century. This workforce includes a cadre of computing professionals prepared to contribute to sustained U.S. leadership in computing in a wide range of application domains and career fields, and a broader professional workforce with knowledge and understanding of critical computing concepts, methodologies, and techniques. To achieve this vision, CISE/CPATH is calling for colleges and universities to work together and with other stakeholders (industry, professional societies, and other types of organizations) to formulate and implement plans to revitalize undergraduate computing education in the United States. The full engagement of faculty and other individuals in CISE disciplines will be critical to success. Successful CPATH projects will be systemic in nature, address a broad range of issues, and have significant potential to contribute to the transformation and revitalization of undergraduate computing education on a national scale. The qualitative data collection of this program evaluation will document CPATH program strategies utilized in infusing computational thinking across different contexts and disciplines, examine the development of communities of practitioners and the dissemination of best practices around computational thinking, and analyze preliminary evidence for how the CPATH program is preparing students for career options in the STEM workforce. Five overarching evaluation questions will guide this program evaluation: (1) How is the CPATH program infusing computational thinking into a wide range of disciplines serving undergraduate education? (2) What is the evidence that university and community college departments and faculty are integrating computational thinking into their courses? (3) How are undergraduate students benefiting from participating in CPATH projects? (4) What is the evidence that the CPATH program is developing communities of practitioners that regularly share best practices across different contexts and disciplinary boundaries? (5) How is the CPATH program promoting sustainable multi-sector partnerships that represent a broad range of stakeholders (e.g., industry, higher education, K12) and contribute to workforce development that supports continued U.S. leadership in innovation? Answers to these questions are currently obtained using mixed evaluation methods including document analyses, site visit interviews, and telephone interviews with selected CPATH grant participants including principal investigators, staff, faculty, administrators, students, and external partners. This revision of the existing data collection activities will now include new protocols for interviewing faculty via phone, project evaluators, as well as edits to the previous protocols. Participation in CPATH program evaluation activities is a mandatory requirement for all CPATH awardees in accordance with the America Competes Act, H.R. 2272, and implementing directives.

Estimate of Burden: Public reporting burden for this collection of information is estimated to average 1 hour per response.

Respondents: Individuals.

Estimated Number of Responses per Form: 400.

Estimated Total Annual Burden on Respondents: 400 hours (400 respondents at 1 hour per response)

Frequency of Response: One time.

Comments: Comments are invited on (a) Whether the proposed collection of information is necessary for the proper performance of the functions of the NSF, including whether the information shall have practical utility; (b) the accuracy of the NSF's estimate of the burden of the proposed collection of information; (c) ways to enhance the quality, utility, and clarity of the information on respondents, including through the use of automated collection techniques or other forms of information technology; (d) ways to minimize the burden of the collection of information on those who are to respond, including through the use of appropriate automated, electronic, mechanical or other technological collection techniques or other forms of information technology.

Dated: October 20, 2010.
Suzanne H. Plimpton,
Reports Clearance Officer, National Science Foundation.

[FR Doc. 2010-26917 Filed 10-22-10; 8:45 am]

BILLING CODE 7555-01-P